DEPARTMENT OF AGRICULTURE

Submission for OMB Review; Comment Request

May 28, 2010.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Imported Seed and Screening.

OMB Control Number: 0579-0124.

Summary of Collection: The United States Department of Agriculture (USDA) is responsible for preventing plant diseases or insect pests from entering the United States, preventing the spread of pests not widely distributed in the United States, and eradicating those imported pests when eradication is feasible. The Plant Quarantine Act and the Federal Plant Pest Act authorizes the Department to carry out this mission. Under the authority of the Federal Seed Act of 1939, as amended, the USDA regulates the importation and interstate movement of certain agricultural and vegetable seeds. The Plant Protection & Quarantine Division of USDA's Animal & Plant Health Inspection Service (APHIS) has established a seed analysis program with Canada that allows U.S. companies that import seed for cleaning or processing to enter into compliance agreements with APHIS. This program eliminates the need for sampling shipments of Canadian-origin seed at the border, and allows certain seed importers to clean seed without the direct supervision of an APHIS inspector. APHIS will collect information using forms PPQ 925, Seed Analysis Certificate and PPQ 519, Compliance Agreement.

Need and Use of the Information: APHIS will collect information from PPQ 925 and PPQ 519 to ensure that imported seeds do not pose a health threat to U.S. agriculture. If the information were not collected there would be no way of preventing noxious weeds from entering the United States.

Description of Respondents: Business or other for-profit.

Number of Respondents: 1,168.

Frequency of Responses: Recordkeeping; Reporting: On occasion.

Total Burden Hours: 9,588.

Animal Plant and Health Inspection Service

Title: Commercial Transportation of Equines to Slaughter.

OMB Control Number: 0579-0160.

Summary of Collection: Sections 901-905 of the Federal Agriculture Improvement and Reform Act of 1996 (7 U.S.C. 1901) authorizes the Secretary of Agriculture to issue guidelines for regulating the commercial transportation of horses to slaughter by persons regularly engaged in that activity within the United States. To fulfill this responsibility, the Animal and Plant Health Inspection Service (APHIS) established regulations in title 9, part 88 of the Code of Federal Regulations. The minimum standards cover among other things the food, water, and rest provided to these horses while they are in transit; and to review other related issues that may be appropriate to ensuring that these animals are treated humanely. Implementing these regulations entails the use of information collection activities such as providing business information, completing an owner-shipper certificate and continuation sheet, and maintaining records of the owner/shipper certificate and continuation sheet.

Need and Use of the Information: APHIS will collect the following information: (1) Shipper's name and address and the owner's name and address; (2) description of the transporting vehicle, including the license plate number; (3) a description of the horse's physical characteristics, including its sex, coloring, distinguishing marks, permanent brands, electronic means of identification, or other characteristics that can be used to accurately identify the horse; (4) the number of the USDA back tag that has been applied to the horse for identification purposes; (5) a statement of the animal's fitness to travel, which must indicate that the horse is able to bear weight on all four limbs, is able to walk unassisted, is not blind in both eyes, is older than 6 months of age, and is not likely to give birth during the trip; (6) a description of anything unusual with regard to the physical condition of the horse, such as a wound or blindness in one eye, and any special handling needs; (7) the date, time, and place the horse was loaded on the conveyance; and (8) a statement that the horse was provided access to food, water, and rest prior to transport. This information is helpful in those instances in which APHIS must conduct a trace back investigation of any possibly stolen horses or because of disease.

Description of Respondents: Business or other for-profit.

Number of Respondents: 200.

Frequency of Responses: Recordkeeping; Reporting: On occasion.

Total Burden Hours: 4,203.

Ruth Brown,
Departmental Information Collection Clearance Officer.

[FR Doc. 2010-13330 Filed 6-2-10; 8:45 am]

BILLING CODE 3410-34-P